NUCLEAR REGULATORY COMMISSION

[Docket Nos. 50-250, 50-260, and 50-296; NRC-2015-0288]

Browns Ferry Nuclear Plant, Units 1, 2, and 3

AGENCY: Nuclear Regulatory Commission.

ACTION: License amendment application; withdrawal by applicant.

SUMMARY: The U.S. Nuclear Regulatory Commission (NRC) has granted the request of the Tennessee Valley Authority (TVA, the licensee) to withdraw its license amendment request (LAR) dated September 16, 2015, as supplemented by letters dated April 15, April 29, May 11, May 25, June 16, August 24, and September 15, 2016, for a proposed amendment to Renewed Facility Operating License (RFOL) Nos. DPR-33, DPR-52, and DPR-68, for the Browns Ferry Nuclear Plant (BFN), Units 1, 2, and 3. The proposed amendment would have revised the BFN, Units 1 and 2 Technical Specifications (TSs) by adding a new specification governing the safety functions for the emergency core cooling system preferred pump logic, common accident signal logic, and the unit priority re-trip logic. In addition, the LAR relocated the BFN, Unit 3, requirements for common accident signal logic and unit priority re-trip logic to a new specification governing the safety functions for the common accident signal logic and the unit priority re-trip logic for consistency with the changes to the BFN, Units 1 and 2, TSs.

DATES: June 22, 2017.

ADDRESSES: Please refer to Docket ID NRC-2015-0288 when contacting the NRC about the availability of information regarding this document. You may obtain publicly-available information related to this document using any of the following methods:

• Federal Rulemaking Web site: Go to http://www.regulations.gov and search for Docket ID NRC-2015-0288. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Farideh Saba, Office of Nuclear Reactor Regulation, U.S. Nuclear Regulatory Commission, Washington DC 20555-0001; telephone: 301-415-1447; email: Farideh.Saba@nrc.gov.

SUPPLEMENTARY INFORMATION: The NRC has granted the request of the TVA to withdraw its September 16, 2015, application for the proposed amendment to RFOLs for Browns Ferry, located in Limestone County, AL.

By letter dated September 16, 2015 (ADAMS Accession No. ML15260B125), as supplemented by letters dated April 15, April 29, May 11, May 25, June 16, August 24, and September 15, 2016 (ADAMS Accession Nos. ML16106A323, ML16123A071, ML16133A566, ML16146A725, ML16169A179, ML16237A418, and ML16260A098, respectively), TVA submitted a LAR to the BFN, Units 1, 2, and 3, Renewed Facility Operating License Nos. DPR-33, DPR-52, and DPR-68, respectively. The proposed amendment would revise the BFN, Units 1 and 2, TSs by adding a new specification governing the safety functions for the emergency core cooling system preferred pump logic, common accident signal logic, and the unit priority re-trip logic. In addition, the LAR would relocate the BFN, Unit 3, requirements for common accident signal logic and unit priority re-trip logic to a new specification governing the safety functions for the common accident signal logic and the unit priority re-trip logic for consistency with the changes to the TSs for BFN, Units 1 and 2.

The NRC published a biweekly notice in the Federal Register on January 5, 2016 (81 FR 265), that gave notice that this proposed amendment was under consideration by the NRC. However, by letter dated May 8, 2017 (ADAMS Accession No ML17128A486), the licensee requested to withdraw the proposed amendment.

Dated at Rockville, Maryland, this 7th day of June 2017.
For the Nuclear Regulatory Commission.
Farideh E. Saba,
Senior Project Manager, Plant Licensing Branch II-2, Division of Operating Reactor Licensing, Office of Nuclear Reactor Regulation.

[FR Doc. 2017-13052 Filed 6-21-17; 8:45 am]

BILLING CODE 7590-01-P